FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202)-523-5793 or tradeanalysis@fmc.gov.

Agreement No.: 012397-001.

Title: National Shipping Company of Saudi Arabia (Bahri) and RZ Carrier GmbH & Co. KG (RZ Carrier) Space Charter Agreement.

Parties: The National Shipping Company of Saudi Arabia d/b/a Bahri and RZ Carrier GmbH & Co. KG.

Filing Party: Wayne Rohde, Esq.; Cozen O'Connor; 1200 Nineteenth Street NW.; Washington, DC 20036.

Synopsis: The amendment changes the name of Rickmers GmbH & Cie KG to RZ Carrier GmbH & Co. KG throughout the Agreement. It also changes the name of the Agreement and restates the Agreement.

By Order of the Federal Maritime Commission.
Dated: July 7, 2017.
Rachel E. Dickon,
Assistant Secretary.

[FR Doc. 2017-14615 Filed 7-11-17; 8:45 am]

BILLING CODE 6731-AA-P